POSTAL SERVICE

39 CFR Part 111

New Address Requirements for Automation, Presorted, and Carrier Route Rate Letters

AGENCY: Postal Service.

ACTION: Proposed rule.

SUMMARY: The Postal Service proposes new type size and spacing requirements for delivery addresses on all automation, presorted, and carrier route rate letters.

DATES: We must receive your comments on or before December 10, 2007.

ADDRESSES: Mail or deliver written comments to the Manager, Mailing Standards, U.S. Postal Service, 475 L'Enfant Plaza, SW., Room 3436, Washington, DC 20260-3436. You may inspect and photocopy all written comments at Postal Service Headquarters Library, 475 L'Enfant Plaza, SW., 11th Floor N, Washington, DC between 9 a.m. and 4 p.m., Monday through Friday.

FOR FURTHER INFORMATION CONTACT: Carrie Witt, 202-268-7279.

SUPPLEMENTARY INFORMATION: We are proposing revisions to the address standards for letter-size pieces mailed at automation, presorted, or carrier route rates. Under the new standards, all letters mailed at discount rates must be addressed using a minimum of 8-point type. In addition, for automation rate letters, the lines and the characters in the address must not touch or overlap, and each element on the address line may be separated by no more than three blank character spaces.

We are proposing these changes to improve address readability for our high-speed processing systems and for our letter carriers during delivery. Legible, standardized address information enhances the processing and delivery of mail, reduces undeliverable-as-addressed mail, and provides mutual cost reduction opportunities through improved efficiency. We can better ensure effective, accurate, and timely delivery when letter carriers receive mailpieces clearly addressed in a readable format.

Many postal processing systems rely on optical character readers that require standardized, high-quality addresses for efficient processing. Even barcoded pieces must include a readable address for systems like the Postal Automated Redirection System (PARS). PARS relies on the printed address to identify and redirect forwardable mail during processing, and pieces read by PARS are instantly routed to their new address for the most efficient delivery.

We recently proposed similar address requirements for flat-size mail in preparation for the new Flats Sequencing System technology. These revisions for letters will further promote consistent addressing for both letters and flats and ensure that address standards are met when letters are used as label carriers for flat-size pieces.

To mitigate the larger type size requirements in the address block, we are looking at ways to shorten optional endorsement lines and allow mailers to place mailer-specified information (such as customer numbers) to the left of the optional endorsement line when OneCode ACS is used. We are also planning to reduce the amount of clear space required under the Intelligent Mail barcode. We will publish these changes in a future revision.

Mailers can also take advantage of the Intelligent Mail barcode to save valuable space on letter-size pieces. One Intelligent Mail barcode can include all tracking and routing information, including ACS and CONFIRM, for that mailpiece. For other ways to reduce address block size, we encourage mailers to refer to Publication 28, Postal Addressing Standards (available on Postal Explorer at pe.usps.com; click on “Address Quality” in the left frame, then “Address Management Publications”). Publication 28 also provides tips and best practices to help mailers address all of their mailpieces successfully.

Although we are exempt from the notice and comment requirements of the Administrative Procedure Act [5 U.S.C. 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the following sections of Mailing Standards of the United States Postal Service, Domestic Mail Manual (DMM), as follows:

200 Discount Mail: Letters and Cards

* * * * *

202 Elements on the Face of a Mailpiece

1.0 All Mailpieces

* * * * *

[Revise 1.2 as follows:]

1.2 Delivery Address

The delivery address specifies the location to which the USPS is to deliver a mailpiece. Except for mail prepared with detached address labels under 602.4.0, the piece must have the address of the intended recipient, visible and legible, only on the side of the piece bearing postage (see 2.0). Use at least 8-point type (8-point type is approximately ⅒-inch high). An Arial font is preferred. These additional standards apply to automation rate letters:

a. The individual characters and the individual lines in the address cannot touch or overlap. A minimum 0.028-inch clear space between lines is preferred.

b. Each element on each line of the address may be separated by no more than three blank character spaces. For example, “ANYTOWN U.S. 12345,” not “ANYTOWN U.S. 12345.”

* * * * *

230 First-Class Mail

233 Rates and Eligibility

* * * * *

5.0 Additional Eligibility Standards for Automation Rate First-Class Mail Letters

* * * * *

5.4.4 Address Elements

[Revise 5.4.4 to add a new last sentence as follows:]

* * *Addresses must also meet the standards for address placement, line spacing, and type size in 202.1.2.

* * * * *

240 Standard Mail

243 Rates and Eligibility

* * * * *

7.0 Eligibility Standards for Automation Rate Standard Mail

7.1 Basic Eligibility Standards for Automation Rate Standard Mail

All pieces in a Regular Standard Mail or Nonprofit Standard Mail automation rate mailing must:

* * * * *

[Revise item d to delete “or numeric equivalent to the delivery point barcode (DPBC)” as follows:]

d. Bear a delivery address that includes the correct ZIP Code or ZIP+4 code and that meets these address quality standards:

[Renumber items d1 and d2 as items d2 and d3. Insert new item d1 as follows:]

1. The address placement, line spacing, and type size standards in 202.1.2.

* * * * *

700 Special Standards

* * * * *

707 Periodicals

* * * * *

3.0 Physical Characteristics and Content Eligibility

* * * * *

3.2 Addressing

* * * * *

3.2.3 Address Placement

[Revise 3.2.3 to reference the new address standards for letters as follows:]

The delivery address must be clearly visible on or through the outside of the mailpiece, whether placed on a label or directly on the host publication, a component, or the mailing wrapper. If placed on the mailing wrapper, the address must be on a flat side, not on a fold. If a polybag is used, the address must not appear on a component that rotates within the bag, and the address must remain visible throughout the addressed component's range of motion. For flat-size pieces, mailers must follow the additional address placement and formatting standards in 302.2.0 and 302.5.0. For letter-size pieces, mailers must follow the additional address placement and formatting standards in 202.1.0.

* * * * *

13.0 Carrier Route Rate Eligibility

13.1 Basic Standards

* * * * *

13.1.2 Address Quality

All pieces in a Periodicals carrier route rate mailing must bear a delivery address that includes the correct ZIP Code or ZIP+4 code and that meets these address quality standards:

* * * * *

[Insert new item d as follows:]

d. For flat-size pieces, mailers must follow the additional address placement and formatting standards in 302.2.0 and 302.5.0. For letter-size pieces, mailers must follow the additional address placement and formatting standards in 202.1.0.

* * * * *

We will publish an appropriate amendment to 39 CFR part 111 to reflect these changes if our proposal is adopted.

Neva R. Watson,
Attorney, Legislative.

[FR Doc. E7-19931 Filed 10-9-07; 8:45 am]

BILLING CODE 7710-12-P